FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 23, 2012.

A. Federal Reserve Bank of Richmond (Adam M. Drimer, Assistant Vice President) 701 East Byrd Street, Richmond, Virginia 23261-4528:

1. FBF Partners, LP, San Francisco, California; to acquire voting shares of Congressional Bancshares, Inc., Bethesda, Maryland, and thereby indirectly acquire voting shares of Congressional Bank, Potomac, Maryland.

B. Federal Reserve Bank of Minneapolis (Jacqueline G. King, Community Affairs Officer) 90 Hennepin Avenue, Minneapolis, Minnesota 55480-0291:

1. John R. Gandrud, as Trustee of The Erick A. Gandrud Irrevocable Trust, and Erick A. Gandrud, as Trustee of The John R. Gandrud Irrevocable Trust, both of Glenwood, Minnesota; to become members of The Gandrud Family Group, and to retain voting shares of Eagle Investment Company, Inc., and thereby indirectly retain voting shares of Eagle Bank, both in Glenwood, Minnesota.

2. Daniel Eugene Bergee and Dale VanHavermaet, both of Hawley, Minnesota, as proposed co-trustees, to acquire control of State Bank of Hawley Employee Stock Ownership Plan & Trust (ESOP), and thereby indirectly acquire control of Bankshares of Hawley, Inc., and State Bank of Hawley, all in Hawley, Minnesota.

Board of Governors of the Federal Reserve System, March 5, 2012.
Robert deV. Frierson,
Deputy Secretary of the Board.

[FR Doc. 2012-5625 Filed 3-7-12; 8:45 am]

BILLING CODE 6210-01-P